DEPARTMENT OF ENERGY

Federal Energy Regulatory Commission

[Docket No. CP00-139-000]

National Fuel Gas Supply Corporation; Notice of Application

March 31, 2000.

Take notice that on March 29, 2000, National Fuel Gas Supply Corporation (National Fuel), 10 Lafayette Square, Buffalo, New York 14203, filed an application in Docket No. CP00-139-000 pursuant to Section 7(b) of the Natural Gas Act and Part 157 of the Commission's Regulations, for authority to abandon certain minor underground natural gas storage facilities, all as more fully set forth in the application on file with the Commission and open to public inspection. This filing may be viewed on the web at http://www.ferc.fed.us/online/rims.htm (call 202-208-2222 for assistance).

In its filing, National Fuel proposes to abandon facilities in Hebron Storage Field, jointly owned with Tennessee Gas Pipeline Company, in Potter County, Pennsylvania. National Fuel proposes to abandon Wells 4895 and 4960 and to abandon the associated well lines Y-W4895 and Y-W4960. The wells are no longer useful due to poor injection performance and poor deliverability and need to be reconditioned or plugged due to deterioration of well casings. The lines will serve no purpose once the wells are plugged and abandoned.

The two well lines total approximately 1,099 feet of 4-inch, 6-inch and 8-inch pipeline. Line Y-W4859 consists of 4-inch (16 feet), 6-inch (796 feet), and 8-inch (134 feet) line, totaling 946 feet in length and is connected to Well 4859. National Fuel proposes to abandon Line Y-W4859 in place, except for a 16 foot section starting at the well which will be removed in order to make room for the rig used in plugging the well. Line Y-W4960 consists of 4-inch and 6-inch line, totaling approximately 153 feet in length, and is connected to Well 4960. National Fuel proposes to remove Line YW-4960 in accordance with the procedures in the Environmental Report submitted as a part of National Fuel's application.

National Fuel avers that there will be no decrease in field performance, nor will there be any abandonment or decrease in service to customers as a result of the proposed abandonment of facilities. The cost of the project will be approximately $316,000, 86.1% of which shall be borne by Tennessee Gas Pipeline Company pursuant to the Hebron Storage Agreement.

National Fuel has contacted the affected landowners regarding this project. National Fuel certifies that all affected landowners will be notified as required by § 157.6(d) and Order No. 609.

Any questions regarding this application should be directed to David W. Reitz, Assistant General Counsel for National Fuel, 10 Lafayette Square, Buffalo, New York 14203 at (716) 857-7949.

Any person desiring to be heard or to make a protest with reference to said application should on or before April 21, 2000, file with the Federal Energy Regulatory Commission, 888 First Street, NE, Washington, DC 20426, a motion to intervene or protest in accordance with the requirements of the Commission's Rules of Practice and Procedure (18 CFR 385.214 or 385.211) and the Regulations under the Natural Gas Act (18 CFR 157.10). All protests filed with the Commission will be considered by it in determining the appropriate action to be taken but will not serve to make the protestant a party to the proceeding. Any person wishing to become a party to a proceeding or to participate as a party in any hearing therein must file a motion to intervene in accordance with the Commission's Rules.

A person obtaining intervener status will be placed on the service list maintained by the Secretary of the Commission and will receive copies of all documents filed by the applicant and by every one of the intervener. An intervener can file for rehearing of any Commission order and can petition for court review of any such order. However, an intervener must submit copies of comments or any other filings it makes with the Commission to every intervener in the proceeding, as well as an original and 14 copies with the Commission.

A person does not have to intervene, however, in order to have environmental comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court. The Commission will consider all comments and concerns equally, whether filed by commenters or those requesting intervener status.

Take further notice that, pursuant to the authority contained in and subject to the jurisdiction conferred upon the Commission by Sections 7 and 15 of the Natural Gas Act and the Commission's Rules of Practice and Procedure, a hearing will be held without further review before the Commission or its designee on this application if no motion to intervene is filed within the time required herein, if the Commission on its own review of the matter finds that permission and approval for the proposed abandonment are required by the public convenience and necessity. If a motion for leave to intervene is timely filed, or if the Commission on its own motion believes that a formal hearing is required, further notice of such hearing will be duly given. Under the procedures herein provide for, unless otherwise advised, it will be unnecessary for National Fuel to appear or to be represented at the hearing.

Linwood A. Watson, Jr.,
Acting Secretary.

[FR Doc. 00-8466 Filed 4-5-00; 8:45 am]

BILLING CODE 6717-01-M